DEPARTMENT OF HEALTH AND HUMAN SERVICES

Centers for Disease Control and Prevention

[Program Announcement 03027]

Grants for New Investigator Training Awards for Unintentional Injury, Violence Related Injury, Acute Care, Disability, and Rehabilitation-Related Research

Application Deadline: April 8, 2003.

A. Authority and Catalog of Federal Domestic Assistance Number

This program is authorized under section 301 (a) (42 U.S.C. 241(a)) of the Public Health Service Act, and section 391 (a) (42 U.S.C. 280b (a)) of the Public Service Health Act, as amended. The catalog of Federal Domestic Assistance number is 93.136.

B. Purpose

The Centers for Disease Control and Prevention (CDC) announces the availability of fiscal year (FY) 2003 funds for grants for new investigator training awards in four research areas: unintentional injury prevention, violence-related injury prevention, injury-related acute care and disability research, and injury-related biomechanics research. This program addresses the “Healthy People 2010” focus areas of Injury and Violence Prevention.

The purposes of this program are to:

1. Solicit research applications that address the priorities reflected under the “Program Requirements” section.

2. Encourage professionals from a wide spectrum of disciplines of engineering, epidemiology, medicine, biostatistics, public health, law and criminal justice, and behavioral, and social sciences to perform research in order to prevent and control injuries more effectively.

3. Support injury research by recent doctoral-level graduates or researchers who are redirecting their careers toward injury research.

4. Build the scientific base for the prevention and control of unintentional and violence-related injuries, disabilities, and deaths.

5. Encourage qualified applicants who are beginning or redirecting their career to focus on injury-related research. The career development objectives of this program are to encourage scientists to develop independent research skills and to gain experience in advanced methods and experimental approaches in injury-related research. This program is also intended to jump start the careers of researchers in injury prevention and control by providing support for pilot studies, enhancements to existing studies, or other studies that will serve as a foundation for a career in injury prevention and control. Applicants are required to seek mentoring or collaboration for their research with more senior-level injury researchers.

Measurable outcomes of the program will be in alignment with the performance goal for the National Center for Injury Prevention and Control (NCIPC): Develop new or improved approaches for preventing and controlling death and disability due to injuries.

Background and Significance

1. Unintentional Injury Prevention Research

For the purposes of this RFA, unintentional injuries are defined as unintentional damage to the body resulting from acute exposure to thermal, mechanical, electrical, or chemical energy or from the absence of such essentials as heat or oxygen. Unintentional injuries continue to be a major public health problem. In 1999, nearly 98,000 people died in the United States as a result of unintentional injuries. Someone dies in this country every six minutes from an injury that is within a category of injuries that includes: motor vehicle crashes, falls, poisonings, drowning, fires and burns, pedestrians struck by motor vehicles, bicycle crashes, or suffocation. In addition to deaths, injuries also constitute a significant cause of both permanent and temporary disability. In 2000, unintentional injuries resulted in nearly 30 million emergency department visits and millions more visits to physicians' offices. Although the greatest cost of injury is human pain and suffering, the financial costs also are staggering: over 200 billion dollars annually for medical care, wage and productivity losses and employer costs in 1998.

2. Violence Related Injury Prevention Research

Deaths and injuries associated with interpersonal violence and suicidal behavior are also a major public health problem in the U.S. and around the world. In 1999, over 46,000 people died from homicide and suicide in the U.S. Among 15 to 24 year olds, homicide and suicide ranked as the second and the third leading causes of death. Violent deaths are the most visible consequence of violent behavior in our society. Morbidity associated with physical and emotional injuries and disabilities resulting from violence, however, also constitute an enormous public health problem. For every homicide that occurs each year there are over 100 nonfatal injuries resulting from interpersonal violence. For every completed suicide it is estimated that there are 20 to 25 suicide attempts. The mortality and morbidity resulting from violence are associated with a variety of types of violence including child maltreatment, youth violence, intimate partner violence, sexual violence, elder abuse, and self-directed violence or suicidal behavior.

3. Injury Related Acute Care, Disability, and Rehabilitation

Each year, Americans make between 30 and 40 million emergency department (ED) visits for injuries. While most injured patients are treated and released, many are admitted to inpatient trauma units and later receive rehabilitative services. The most favorable outcomes are achieved when acute care and subsequent rehabilitation are as early as possible and focus on returning patients to baseline or to an optimal level of functioning. Trauma systems are designed to match trauma patients with the acute care and rehabilitative facilities they need, but in many parts of the U.S. trauma systems are not fully operational or are nonexistent. Also, as many as 30 to 40 percent of deaths among trauma patients are due to preventable problems in clinical care, including missed diagnoses and treatment delays.

Injuries are a major cause of disabilities in the U.S. Central nervous system injuries (those to the brain and spinal cord) are most likely to result in serious long-term disability. Each year, an estimated 80,000 Americans sustain a traumatic brain injury (TBI) that results in disability; an estimated 5.3 million Americans live with TBI-related disability. Although physical impairments from the injury may contribute to TBI disability, cognitive deficits are the hallmark, frequently resulting in secondary conditions such as depression and other adverse outcomes such as the inability to work. An estimated 177,000 to 200,000 people in the U.S. live with spinal cord injuries (SCI), and this number increases annually by as many as 20,000 individuals.

4. Biomechanics

The field of biomechanics quantifies the response and tolerance of the human body to impact (e.g., motor vehicle collisions, playground falls, and child battering) and addresses the underlying mechanisms of injury, the forces deforming the body and the physiologic effects of injury to infants, children, adults and the aged population. Based on interdisciplinary research, the engineering factors are determined that deform the body and the medical consequences are quantified that affect vital functions. This knowledge is used to modify the design of protective systems to improve safety. Improved safety systems protect an individual from impact forces that can injure, and they can include protective equipment (cycling helmets) and environments (playground surfaces), occupant restraints (airbags and safety belts), and policies (rules to minimize spearing in football). Biomechanical knowledge can also be used to improve post-injury outcomes through physiologic models to address emergency medical treatments, pharmacologic interventions and rehabilitation to advance recovery.

An overview of the role of biomechanics in a national effort for injury control was included in the landmark NAS study “Injury in America: A Continuing Public Health Problem-Committee on Trauma Research” (Commission on Life Sciences, National Research Council and the Institute of Medicine, National Academy Press, Washington, DC, 1985). The role is described in more detail in a follow-on paper from the NAS study: Injury Biomechanics Research: An Essential Element in the Prevention of Trauma (Viano DC, King AI, Melvin JW, Weber K. Journal of Biomechanics, 22(5): 403-417, 1989).

This program attempts to build on the basic knowledge of biomechanics and encourage interdisciplinary intervention-oriented injury control research as supported in the “CDC Injury Research Agenda” (See Attachment 2 as posted on the CDC Web site).

C. Eligible Applicants

Applications may be submitted by public and private nonprofit and for profit organizations and by governments and their agencies; that is, universities and colleges (including but not limited to schools or departments of public health, medicine, nursing, criminal justice, bioengineering, or the behavioral or social sciences,) technical schools, research institutions, hospitals, other public and private nonprofit and for profit organizations, community-based organizations, faith-based organizations, State and local governments or their bona fide agents, including the District of Columbia, the Commonwealth of Puerto Rico, the Virgin Islands, the Commonwealth of the Northern Mariana Islands, American Samoa, Guam, the Federated States of Micronesia, the Republic of the Marshall Islands, and the Republic of Palau, Federally recognized Indian tribal governments, Indian tribes, or Indian tribal organizations, and small, minority, and/or women-owned businesses.

Note: Title 2 of the United States Code section 1611 states that an organization described in section 501(c)(4) of the Internal Revenue Code that engages in lobbying activities is not eligible to receive Federal funds constituting an award, grant or loan.

Applicants must have a research or a health-professional doctorate-level degree from an accredited program and have demonstrated the capacity or potential for highly productive research in the period after the doctorate, commensurate with level of experience. Applicants must be within three years of having completed their doctoral or equivalent graduate work (including dissertation, where appropriate), or redirecting their research to injury-related research. Documentation of such redirection such as letters indicating recent substantive involvement in injury research or injury-related publications must be included in the application. Applicants who have been the principal investigator on a Public Health Service (PHS) injury-related research grant or who have had equivalent injury-related research support from an existing Injury Control Research Center (ICRC) are not eligible. Exceptions are researchers who have redirected their research areas from one area of injury research, e.g., acute care or biomechanics, to another area, e.g., violence prevention research. Recipients of dissertation research grants or National Institutes of Health (NIH) Small Grant Awards are eligible to apply.

Applications that are incomplete or non-responsive to the following requirements will be returned to the applicant without further consideration:

1. A principal investigator who has specific authority and responsibility to carry out the proposed project.

2. Effective and well-defined working relationships within the performing organization and with outside entities, which will ensure implementation of the proposed activities.

3. The ability to carry out injury control research projects as defined under Attachment 2 (1. a-c) as posted on the CDC website.

4. The overall match between the applicant's proposed theme and research objectives and the program priorities as described under the heading, “Program Requirements”.

5. Mentorship as noted in the letter of support and commitment of mentor's time.

D. Funding

Availability of Funds

Approximately $400,000 is available in FY 2003 to fund approximately four awards. It is expected that the award will begin on or about September 1, 2003, and will be made for a 12-month project period. Grants will be awarded for 12 months, but may be extended without additional funds for up to a total of 24 months. The maximum funding level for each project will not exceed $100,000 (direct and indirect costs) per year. Funding estimates may change.

Applications that exceed the funding caps noted above will be excluded from the competition and returned to the applicant. The availability of federal funding may vary and is subject to change.

Note: Grant funds will not be made available to support the provision of direct care. Eligible applicants may enter into contracts, including consortia agreements, as necessary to meet the requirements of the program and strengthen the overall application.

Use of Funds

The use of funds for applicant include, partial salary and tuition support; direct research project expenses, such as trainee stipends, interviewer costs, data processing, participant incentives, statistical consultation services, and supplies; and travel to one scientific meeting, if adequately justified. Applicants should also include travel costs for one, two-day trip to CDC in Atlanta to present research findings. Funds for tuition support are limited to no more than 20 percent of the overall award and their use must be generally related to the content and methods of the proposed research. Indirect cost for these trainee-related activities are limited to eight percent.

Recipient Financial Participation

Matching funds are not required for this program.

E. Program Requirements

Applicants are encouraged to propose studies that can feasibly be completed within the available funds and funding period.

Research Objectives

For the purpose of this Program Announcement, highest consideration will be given to research that addresses one of the following research areas and subtopics:

Violence

1. Evaluation of strategies for disseminating and implementing evidence-based interventions or policies for the prevention of intimate partner violence, sexual violence (includes both sexual violence against adults and child sexual abuse), child maltreatment, youth violence or suicidal behavior.

2. Evaluation of the efficacy, effectiveness, and cost effectiveness of interventions, programs, and policies to prevent intimate partner violence, sexual violence, child maltreatment, youth violence or suicidal behavior.

3. Identification of shared and unique risk and protective factors for the perpetration of intimate partner violence, sexual violence, child maltreatment, youth violence or suicidal behavior, and examine the relationships among these forms of violence.

Unintentional Injury

1. Development of strategies that encourage practitioners and policy makers to adopt science-based programs, policies, laws, and regulations that reduce unintentional injuries.

2. Identification of modifiable behavioral responses to a residential fire and evaluating the effectiveness of evacuation strategies in fire emergencies and mass trauma events.

3. Among children, determination of the immediate causes of the most severe and disabling types of falls, or evaluating interventions that prevent serious falls in children.

4. Development of interventions that utilize applied behavioral analysis, behavioral safety, or other behavior modification strategies to change injury risk behaviors in non-occupational settings.

5. Development and implementation of interventions to increase motor vehicle safety in older adult drivers.

6. Evaluation of the effectiveness of implementing new innovative strategies to reduce alcohol-impaired driving.

7. Evaluation of the effectiveness of environmental, engineering or behavioral interventions to prevent pedestrian injury.

8. Methodological research to better define and measure aspects of supervision and its relative effectiveness in preventing injuries

Acute Care, Disability, and Rehabilitation

1. Development and evaluation of protocols that provide onsite interventions in acute care settings or linkages to off-site services for patients at risk of injury or psychosocial problems following injury.

2. Development and application of methods that can be used to calculate population-based estimates of the incidence, costs, and long-term consequences of spinal cord injury (SCI) and nonhospitalized traumatic brain injury (TBI). Identification of methods and strategies to ensure that people with TBI and SCI receive needed services.

Biomechanics

1. Use of biomechanics research and the knowledge of injury tolerance and injury mechanisms for the development and evaluation of interventions that address the following specific injury prevention and control problems:

a. Falls among older, community dwelling adults (e.g., hip pads).

b. Injuries in mass trauma events.

c. Severe and disabling falls among children.

d. Sports, recreation, and exercise related injuries (e.g., playground and other play environments, safety gear).

e. Injuries associated with people initiating or increasing physical activity (e.g., training programs or protective devices).

f. Injuries related to outdoor recreation (e.g., vehicle design).

g. Motorcycling, bicycling and pedestrian injuries (e.g., vehicle design).

h. Injuries to child occupants of motor vehicles (e.g., universal fasteners and alternative restraint designs).

i. Injuries to older drivers.

j. Injuries associated with the effects of emerging vehicle technologies.

2. Development of more basic biomechanical information that is needed to identify biomechanics and specific injuries that would be highly predictive of diagnoses of intimate partner violence and child maltreatment and improve case definitions.

3. Advancement of the biomechanical understanding of traumatic injury (e.g., injuries to the brain, spinal cord, thorax/abdomen, extremities and joints) including the development of biofidelic models to elucidate injury physiology as well as pharmacologic, surgical, rehabilitation, and other interventions; improvement of injury assessment technology; impact injury mechanisms research; and quantification of injury-related biomechanical responses for critical areas of the human body (e.g., brain and vertebral injury with spinal cord involvement).

4. Definition of the human tolerance limits for injury, especially determining the differences in human tolerance by age, fitness level, and gender and the biomechanics and injury tolerances of tissue, bone, and other human structures as a prerequisite for developing interventions.

5. Identification of the modifiable risk factors for and mechanisms of nonfatal neck, back, and soft tissue (whiplash-like) injuries.

Other Special Conditions for New Investigator Research Grants

1. The applicant must be the designated principal investigator. The principal investigator must be responsible for planning, directing, and executing the proposed project. The applicant must include a signed letter indicating that he or she personally wrote the application.

2. The applicant must specify which of four areas the proposal addresses: (a) Unintentional injury; (b) violence-related injury research; (c) injury-related acute care, disability, and rehabilitation; or (d) biomechanics.

3. The applicant must provide measures of effectiveness that will demonstrate the accomplishment of the various identified objectives of the grant. Measures must be objective/quantitative and must measure the intended outcome. These measures of effectiveness must be submitted with the application and will be an element of the application evaluation.

4. The grant may not be transferred to another institution, except under unusual and compelling circumstances (such as if the mentor moves to a new institution and both the mentor and the applicant wish to move together).

5. Any publications directly resulting from the grant should be reported to the responsible CDC program official. The grantee also must cite receiving support from HHS/CDC/NCIPC in any publications directly resulting from the new investigator grant.

F. Content

Letter of Intent (LOI)

The LOI is optional for this program. The narrative should be no more than single-spaced pages, printed on one side, with one-inch margins, and unreduced 12-point font. Your letter should identify the announcement number, the name of the principal investigator, and briefly describe the scope and intent of the proposed research work. The letter of intent does not influence review or funding decisions, but the number of letters received will enable CDC to plan the application review more effectively and efficiently.

Applications

The Program Announcement title and number must appear in the application. Use the information in the Program Requirements, Other Requirements, and Evaluation Criteria sections to develop the application content. Your application will be evaluated on the criteria listed, so it is important to follow them in laying out your program plan. The narrative should be no more than 25 single-spaced pages, printed on one side, with one-inch margins, and unreduced 12-point font.

Applications should follow the PHS-398 (Rev. 5/2001) application and Errata sheet, and the narrative should include the following information:

1. The project's focus that justifies the research needs and describes the scientific basis for the research, the expected outcome, and the relevance of the findings to reduce injury morbidity, mortality, disability, and economic losses. This focus should be based on recommendations in “Healthy People 2010” and the “CDC Injury Research Agenda” and should seek creative approaches that will contribute to a national program for injury control.

2. Specific, measurable, and time-framed objectives.

3. A detailed plan, which describes the methods by which the objectives will be achieved, including their sequence. A comprehensive evaluation plan is an essential component of the application.

4. A description of the roles and responsibilities of the principal investigator and mentor, where appropriate.

5. A description of all project staff regardless of their funding source. It should include their title, qualifications, experience, percentage of time each will devote to the project, as well as that portion of their salary to be paid by the grant.

6. A description of those activities related to, but not supported by the grant.

7. A description of the involvement of other entities that will relate to the proposed project, if applicable. It should include letters of organizational commitments of support and a clear statement of their roles.

8. A detailed budget for the grant.

9. An explanation of how the research findings will contribute to the national effort to reduce the morbidity, mortality and disability caused by injuries.

10. An evaluation plan for the project, including quantifiable measures of effectiveness.

Additional Materials Required

In addition to the completed PHS 398 application form, the applicant must also submit the following materials, attached to the application as appendices:

1. An official transcript of the applicant's graduate school record, if within the last three years.

2. When relevant, documentation showing the researcher has redirected his or her career within the last three years.

3. A justification for any proposed tuition support.

4. An overview of the applicant's prior research training and experience as well as a statement of the applicant's short-term and long-term research and career goals and intended career trajectory.

5. A letter from the applicant's mentor or scientific collaborator that outlines the proposed plan for providing scientific advice and consultation to the applicant during the grant period and a biography of the mentor or senior-level collaborator, limited to two pages (Use the Biographical Sketch page in application form PHS 398.)

G. Submission and Deadline

Letter of Intent (LOI) Submission

On or before March 4, 2003, submit the LOI to the Grants Management Specialist identified in the “Where to Obtain Additional Information” section of this announcement.

Application Forms

Submit the original and two copies of PHS-398 (OMB Number 0925-0001). Forms are available at the following Internet address: www.cdc.gov/od/pgo/forminfo.htm.

If you do not have access to the Internet, or if you have difficulty accessing the forms on-line, you may contact the CDC Procurement and Grants Office Technical Information Management Section (PGO-TIM) at 770-488-2700, and forms can be mailed to you.

Submission Date, Time, and Address

The application must be received by 4 p.m. eastern time, April 8, 2003. Submit the application to: Technical Information Management—PA 03027, Procurement and Grants Office, Centers for Disease Control Prevention, 2920 Brandywine Rd, Room 3000, Atlanta, GA 30341-4146.

Applications may not be submitted electronically.

CDC Acknowledgement of Application Receipt

A postcard will be mailed by PGO-TIM, notifying you that CDC has received your application.

Deadline

Letters of intent and applications shall be considered as meeting the deadline if they are received before 4 p.m. eastern time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition and will be discarded. Applicants will be notified of their failure to meet the submission requirements.

H. Evaluation Criteria

Application

Upon receipt, applications will be reviewed by CDC staff for completeness, responsiveness, and eligibility as outlined under the “Eligible Applicants” section. Incomplete applications and applications that are not responsive will be returned to the applicant without further consideration.

It is especially important that the applicant's abstract reflects the project's focus, because the abstract will be used to help determine the responsiveness of the application.

Applications which are complete and responsive may be subjected to a preliminary evaluation (streamline review) by a peer review committee, the Injury Research Grant Review Committee (IRGRC), to determine if the application is of sufficient technical and scientific merit to warrant further review by the IRGRC; CDC will withdraw from further consideration applications judged to be noncompetitive and promptly notify the principal investigator/program director and the official signing for the applicant organization. Those applications judged to be competitive will be further evaluated by a dual review process.

All awards will be determined by the Director of the NCIPC based on priority scores assigned to applications by the IRGRC, recommendations by the secondary review committee, e.g., NCIPC's Advisory Committee for Injury Prevention and Control (ACIPC), consultation with NCIPC senior staff, and the availability of funds.

1. The primary review will be a peer review conducted by the IRGRC. A committee consisting of no less than three reviewers with appropriate expertise using current NIH criteria (a scoring system of 100-500 points) will evaluate the methods and scientific quality of the application. All categories are of equal importance, however, the application does not need to be strong in all categories to be judged likely to have a major scientific impact.

Factors to be considered will include:

a. Significance—Does this study address an important problem? If the aims of the application are achieved, how will scientific knowledge be advanced? What will be the effect of these studies on the concepts or methods that drive this field?

b. Approach—Are the conceptual framework, design, methods, and analyses adequately developed, well integrated, and appropriate to the aims of the project and the resources available? Does the applicant acknowledge potential problem areas and consider alternative tactics? Does the project include plans to measure progress toward achieving the stated objectives? Is there an appropriate work plan included?

c. Innovation—Does the project employ novel concepts, approaches or methods? Are the aims original and innovative? Does the project challenge or advance existing paradigms, or develop new methodologies or technologies?

d. Investigator—Is the principal investigator appropriately trained and well suited to carry out this work? Is the proposed work appropriate to the experience level of the principal investigator? Is the name and role of a scientific mentor or collaborator described?

e. Environment—Does the scientific environment in which the work will be done contribute to the probability of success? Is there evidence of institutional support? Is there an appropriate degree of commitment and cooperation of other interested parties as evidenced by letters detailing the nature and extent of the involvement?

f. Ethical Issues. What provisions have been made for the protection of human subjects and the safety of the research environments? Where relevant, how does the applicant plan to handle issues of confidentiality and compliance with mandated reporting requirements, e.g., suspected child abuse? Does the application adequately address the requirements of 45 CFR part 46 for the protection of human subjects? (An application can be disapproved if the research risks are sufficiently serious and protection against risks is so inadequate as to make the entire application unacceptable.) The degree to which the applicant has met the CDC Policy requirements regarding the inclusion of women, ethnic, and racial groups in the proposed research (see Attachment 1, AR-2). This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

g. Study Samples. Are the samples sufficiently rigorously defined to permit complete independent replication at another site? Have the referral sources been described, including the definitions and criteria? What plans have been made to include women and minorities, and their subgroups as appropriate for the scientific goals of the research? How will the applicant deal with recruitment and retention of subjects?

h. Dissemination. What plans have been articulated for disseminating findings?

i. Measures of Effectiveness. The Peer Review Panel shall assure that measures set forth in the application are in accordance with CDC's performance plans. How adequately has the applicant addressed these measures?

The IRGRC will also examine the appropriateness of the proposed project budget and duration in relation to the proposed research and the availability of data required for the project.

2. The secondary review will be conducted by the Science and Program Review Subcommittee (SPRS) of the ACIPC. The ACIPC Federal agency experts will be invited to attend the secondary review, and will receive modified briefing books (i.e., abstracts, strengths and weaknesses from summary statements, and project officer's briefing materials). ACIPC Federal agency experts will be encouraged to participate in deliberations when applications address overlapping areas of research interest, so that unwarranted duplication in federally funded research can be avoided and special subject area expertise can be shared. The NCIPC Division Associate Directors for Science (ADS) or their designees will attend the secondary review in a similar capacity as the ACIPC Federal agency experts to assure that research priorities of the announcement are understood and to provide background regarding current research activities. Only SPRS members will vote on funding recommendations, and their recommendations will be carried to the entire ACIPC for voting by the ACIPC members in closed session. If any further review is needed by the ACIPC, regarding the recommendations of the SPRS, the factors considered will be the same as those considered by the SPRS.

The committee's responsibility is to develop funding recommendations for the NCIPC Director based on the results of the primary review, the relevance and balance of proposed research relative to the NCIPC programs and priorities, and to assure that unwarranted duplication of federally funded research does not occur. The secondary review committee has the latitude to recommend to the NCIPC Director, to reach over better-ranked proposals in order to assure maximal impact and balance of proposed research. The factors to be considered will include:

a. The results of the primary review including the application's priority score as the primary factor in the selection process.

b. The relevance and balance of proposed research relative to the NCIPC programs and priorities.

c. The significance of the proposed activities in relation to the priorities and objectives stated in “Healthy People 2010,” the Institute of Medicine report, “Reducing the Burden of Injury,” and the “CDC Injury Research Agenda'.

I. Other Requirements

Technical Reporting Requirements

Provide CDC with an original plus two copies of:

1. Annual progress report (The progress report will include a data requirement that demonstrates measures of effectiveness).

2. A financial status report, no more than 90 days after the end of the budget period.

3. A final financial report and performance report, no more than 90 days after the end of the project period.

4. At the completion of the project, the grant recipient will submit a brief (2,500 to 4,000 words written in non-scientific (laymen's) terms) summary highlighting the findings and their implications for injury prevention programs, policies, environmental changes, etc. The grant recipient will also include a description of the dissemination plan for research findings. This plan will include publications in peer-reviewed journals and ways in which research findings will be made available to stakeholders outside of academia, (e.g., state injury prevention program staff, community groups, public health injury prevention practitioners, and others). CDC will place the summary report and each grant recipient's final report with the National Technical Information Service (NTIS) to further the agency's efforts to make the information more available and accessible to the public.

Send all reports to the Grants Management Specialist identified in the “Where to Obtain Additional Information” section of this announcement.

Additional Requirements

The following additional requirements are applicable to this program. For a complete description of each, see Attachment 1 of the program announcement as posted on the CDC web site.

AR-1 Human Subjects Certification

AR-2 Requirements for inclusion of Women and Racial and Ethnic Minorities in Research

AR-3 Animal Subjects Requirement

AR-9 Paperwork Reduction Requirements

AR-10 Smoke-Free Workplace Requirement

AR-11 Healthy People 2010

AR-12 Lobbying Restrictions

AR-13 Prohibition on Use of CDC funds for Certain Gun Control Activities

AR-21 Small, Minority, and Women-owned Business

AR-22 Research Integrity

Executive Order 12372 does not apply to this program.

J. Where To Obtain Additional Information

This and other CDC announcements, the necessary applications, and associated forms can be found on the CDC web site, Internet address: http://www.cdc.gov.

Click on “Funding,” then “Grants and Cooperative Agreements.”

For general questions about this announcement, contact: Technical Information Management, CDC Procurement and Grants Office, 2920 Brandywine Rd, Atlanta, GA 30341-4146. Telephone: 770-488-2700.

For business management and budget assistance, contact: Richard Jenkins, Grants Management Specialist, Procurement and Grants Office, Centers for Disease Control and Prevention, 2920 Brandywine Road, Atlanta, GA 30341-4146. Telephone: 770-488-2604. E-mail address: rbj3@cdc.gov.

For program technical assistance, contact: Tom Voglesonger, Program Manager, Office of the Director, National Center for Injury Prevention and Control, Centers for Disease Control and Prevention (CDC), 4770 Buford Highway, NE., Mailstop K-02, Atlanta, GA 30341-3724. Telephone: 770-488-4823. Internet address: TVoglesonger@cdc.gov.

Dated: February 1, 2003.
Sandra R. Manning,
CGFM, Director, Procurement and Grants Office, Centers for Disease Control and Prevention.

[FR Doc. 03-3027 Filed 2-6-03; 8:45 am]

BILLING CODE 4163-18-P